DEPARTMENT OF HEALTH AND HUMAN SERVICES

Request for Co-Sponsors for the Office of Healthcare Quality's Programs To Strengthen Coordination and Impact of National Efforts in the Prevention of Healthcare-Associated Infections

AGENCY: Department of Health and Human Services, Office of the Secretary, Office of the Assistant Secretary for Health, Office of Healthcare Quality.

ACTION: Notice.

SUMMARY: The Department of Health and Human Services (HHS), Office of the Secretary (OS), Office of the Assistant Secretary for Health (ASH), Office of Healthcare Quality (OHQ) announces the opportunity to collaborate with HHS. HHS invites public and private professional health related organizations to participate as collaborating co-sponsors in the development and implementation of an innovative program that implements the HHS Action Plan to Prevent Healthcare-Associated Infections (HHS Action Plan), found at http://www.hhs.gov/ash/initiatives/hai/actionplan/index.html, by using appropriate strategies to achieve one or more of the nine targets for the priority areas identified in the HHS Action Plan, for example, a 50 percent reduction in central line-associated bloodstream infections (CLABSI) by the end of 2013. A “co-sponsorship” refers to the joint development of a program or event related to the goals and objectives of the HHS Action Plan and excludes programs or events that would require funding for their implementation from HHS, OS, OASH, or OHQ.

DATES: Expressions of interest for FY 2011-12 must be received no later than close of business on November 30, 2011.

ADDRESSES: Expressions of interest, comments, and questions may be submitted by Email to ohq@hhs.gov; and by regular mail to Office of Healthcare Quality, Department of Health and Human Services, 200 Independence Avenue SW., Room 730E, Washington, DC 20201, or via fax to (202) 401-9547.

FOR FURTHER INFORMATION CONTACT: Daniel Gallardo via electronic mail to ohq@hhs.gov.

SUPPLEMENTARY INFORMATION: Healthcare-associated infections exact a significant toll on human life. They are among the leading causes of preventable death in the United States. On average, 1 in 3 patients admitted to a hospital suffers a medical error or adverse event and at any given time about 1 in every 20 patients is affected by an infection related to hospital care. And, on average, 1 in 7 Medicare beneficiaries is harmed in the course of care, costing the government an estimated $4.4 billion every year. For these reasons, the prevention and reduction of healthcare-associated infections is a top priority for HHS.

The HHS Steering Committee for the Prevention of Healthcare-Associated Infections, led by Dr. Don Wright, Deputy Assistant Secretary for Healthcare Quality, was established in July 2008. The Steering Committee was charged with developing a comprehensive strategy to prevent and reduce healthcare-associated infections and issuing a plan which establishes national goals for healthcare-associated infection prevention and outlines key actions for achieving identified short- and long-term objectives. The plan, released in 2009 as the HHS Action Plan, is also intended to enhance collaboration with external stakeholders to strengthen coordination and impact of national efforts.

Therefore, OHQ is interested in establishing partnerships with private and public professional health organizations in order to further efforts in the prevention of healthcare-associated infections. As partners with OHQ, professional health related organizations can bring their ideas, expertise, administrative capabilities, and resources in the development of programs that promote the reduction and prevention of healthcare-associated infections.

Given OHQ's objective, entities that have similar goals and consistent interests, appropriate expertise and resources, and that would like to pursue a co-sponsorship opportunity with OHQ, are encouraged to reply to this notice with a conceptual proposal outlining the proposed program or event, including information regarding the program's or event's objective(s) and anticipated outcome(s). The proposal should not exceed more than two pages.

Working together, these partnerships will provide opportunities to promote the prevention and reduction of healthcare-associated infections.

Dated: November 9, 2011.
Don Wright,
Deputy Assistant Secretary for Healthcare Quality.

[FR Doc. 2011-29489 Filed 11-14-11; 8:45 am]

BILLING CODE 4150-28-P